DEPARTMENT OF HEALTH AND HUMAN SERVICES

Food and Drug Administration

[Docket Nos. FDA-2018-N-4131, FDA-2018-N-0821, FDA-2013-N-0032, FDA-2014-N-0801, FDA-2007-D-0429, FDA-2013-N-0013, and FDA-2008-D-0530]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10 a.m.-12 p.m., 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at http://www.reginfo.gov/public/do/PRAMain. An Agency may not conduct or sponsor, and a person is not required to respond to, a collection of information unless it displays a currently valid OMB control number.

Table 1—List of Information Collections Approved By OMB
Title of collection | OMB control number | Date approval expires
FDA Adverse Event and Products Experience Reports; Electronic Submissions | 0910-0645 | 6/30/2022
Investigation of Consumer Perceptions of Expressed Modified Risk Claims | 0910-0873 | 6/30/2022
Food Labeling: Notification Procedures for Statements on Dietary Supplements | 0910-0331 | 7/31/2022
Export Notification and Recordkeeping Requirements | 0910-0482 | 7/31/2022
Labeling of Nonprescription Human Drug Products Marketed Without an Approved Application as Required by the Dietary Supplement and Nonprescription Drug Consumer Protection Act | 0910-0641 | 7/31/2022
Sanitary Transportation of Human and Animal Food | 0910-0773 | 7/31/2022
Guidance for Industry on Tropical Disease Priority Review Vouchers | 0910-0822 | 7/31/2022

Dated: August 1, 2019.
Lowell J. Schiller,
Principal Associate Commissioner for Policy.

[FR Doc. 2019-16889 Filed 8-6-19; 8:45 am]

BILLING CODE 4164-01-P